DEPARTMENT OF TRANSPORTATION

Pipeline and Hazardous Materials Safety Administration

[Docket No. PHMSA-2017-0108, Notice No. 2021-03]

Hazardous Materials: Show Cause and Procedures for Complying With the UN Model Regulation 6(d) Test Criteria for Certain Explosive Classification Approvals

AGENCY: Pipeline and Hazardous Materials Safety Administration (PHMSA), DOT.

ACTION: Notice.

SUMMARY: PHMSA is issuing this notice to serve process in accordance with 49 CFR 105.35(a)(3) and inform all persons who currently hold Explosive (EX) approvals for four specific Division 1.4S explosives of the process necessary for maintaining or upgrading these approvals.

FOR FURTHER INFORMATION CONTACT: Ms. Harpreet Singh, Chief, Energetic Materials Branch, Sciences and Engineering Division, Office of Hazardous Materials Safety, (202) 366-4535, PHMSA, 1200 New Jersey Ave. SE, Washington, DC 20590.

SUPPLEMENTARY INFORMATION:

A. Background

The 20th Revised Edition (2017) ¹ of the United Nations Recommendations on the Transport of Dangerous Goods—Model Regulations (UN Model Regulations) was amended so that four Division 1.4S explosives (i.e., UN0349, UN0367, UN0384, and UN0481) must now pass an additional test (i.e., the UN 6(d) unconfined package test) to continue to maintain the 1.4S classification. This requirement was also implemented for international air transport in the International Civil Aviation Organization (ICAO) Technical Instructions for the Safe Transport of Dangerous Goods by Air on January 1, 2019, and for international vessel transport in the International Maritime Dangerous Goods (IMDG) Code on January 1, 2020.

¹ https://www.unece.org/trans/danger/publi/unrec/rev20/20files_e.html.

On May 11, 2020, PHMSA published a final rule titled, “Hazardous Materials: Harmonization with International Standards” [HM-215O; 85 FR 27810].² As part of the HM-215O final rule, PHMSA amended the Hazardous Materials Regulations (HMR; 49 CFR parts 171-180) to codify this amendment with a mandatory compliance date of May 10, 2021.

² See https://www.govinfo.gov/content/pkg/FR-2020-05-11/pdf/2020-06205.pdf.

PHMSA identified 2,211 EX approvals assigned to the four UN identification numbers (UN ID numbers) (UN0349, UN0367, UN0384, and UN0481) impacted by the required UN 6(d) unconfined package test. These 2,211 EX approvals are held by approximately 145 separate holders. Because of the new UN 6(d) test requirement, existing approvals for the four affected UN ID numbers must be modified in accordance with 49 CFR 107.713(a)(1) to reflect whether EX approval holders have had this test successfully performed.

Approval holders must either show cause why their approvals should not be terminated or apply for a modification of their approval prior to the effective date to avoid termination. EX approval holders have until June 3, 2021, to provide a written response to PHMSA either to request that PHMSA modify their approval(s) or otherwise show cause as to why their approval(s) should not be terminated, as required by 49 CFR 107.713(c)(1). Approvals for which PHMSA does not receive a modification request by June 3, 2021, are subject to termination in a subsequent Federal Register notice.

PHMSA is providing the following options to current holders of an EX approval affected by this requirement. Affected EX approval-holders may:

(1) Request that PHMSA maintain their current classification based on successful completion and passing of the UN 6(d) test;

(2) Modify their EX approval to a higher classification; or

(3) Notify PHMSA that their EX approval is no longer in use and may be terminated.

Requests may be submitted to PHMSA via email at explo@dot.gov or the PHMSA EX Portal at https://portal.phmsa.dot.gov/PHMSAPortal2.

This notice is primarily intended to reach EX approval holders that have yet to take action or that PHMSA has been unable to contact, and to serve as a Show Cause notice in accordance with 49 CFR 107.713(a)(1) and (c) for all EX approval holders who have not submitted a modification request. Holders of EX approvals who have yet to request a modification of their approval(s) are provided in Table 2. Table 2 below contains a list of EX approval holders by company name indicated in their approval and associated EX approval numbers and UN ID numbers. This table accurately reflects the population of holders from whom PHMSA has yet to receive a request to modify their approval(s) or we have been unable to contact as of March 31, 2021.

B. Requests To Maintain 1.4S Classification

Applicants should submit a request letter as described in 49 CFR 107.705 to PHMSA asking to maintain their EX approval classification as “1.4S.” The application should include a copy of the current EX approval and documentation, such as a report from a DOT-Approved Explosive Test Lab or Competent Authority Approval, that demonstrates completion and passing of the UN 6(d) test. The application will be evaluated, and if deemed satisfactory, the EX approval will be revised with an updated packaging note designating that the classification meets UN 6(d) test criteria.

C. Requests for Modification of EX Approval to a Higher Classification

Applicants should submit a request letter as described in 49 CFR 107.705 to PHMSA asking that the current 1.4S classification on their EX approval be voluntarily up-classed (i.e., classification changing to a more appropriate classification in the absence of the UN 6(d) test) due to the UN 6(d) test requirement. The application should include a current copy of the EX approval and either the original class recommendation lab report or the Competent Authority Approval document upon which the 1.4S classification was based. The application will be evaluated, and if deemed satisfactory, the EX approval will then be modified to an appropriate classification. These approvals will be modified consistent with the classifications noted in Table 1 below. EX approvals that were issued for either UN0349 or UN0481 materials may also require additional information to determine the most appropriate compatibility group for the explosive or whether there is a more specific proper shipping name (PSN) that should be used.

D. Termination of EX Approval

For those affected EX approvals for which PHMSA receives no notification to maintain or modify the EX approval, they will be subject to termination effective June 3, 2021, in accordance with 49 CFR 173.58(d) and 107.713(c)(2). EX approval holders may also voluntarily submit requests to terminate approvals that are no longer desired. The terminated EX approval may be reissued upon request to an appropriate classification as justified by testing and with a recommendation in accordance with 173.56 or modified to a higher classification.

Table 1
Current 1.4S UN ID No. and PSN | Without UN 6(d) test UN ID No. and PSN
UN0384, Components, explosive train, n.o.s | * UN0383, 1.4B Components, explosive train, n.o.s.
UN0367, Fuzes detonating | * UN0257, 1.4B Fuzes, detonating or, UN0410 1.4D Fuzes, detonating, with protective features (if protective features are verified).
UN0349, Articles, explosive, n.o.s | Various (depending on compatibility group and whether a more specific PSN exists in “1.4 not S”).
UN0481, Substances, explosive, n.o.s | Various (depending on compatibility group and whether a more specific PSN exists in “1.4 not S”).
* Default classification.

Table 2
EX approval No.(s) | UN ID No. | Current EX approval holder
EX1999100239 | UN0367 | Accurate Arms Company, Inc.
EX1988040100, EX1988040101, EX1989110272 | UN0367 | Accurate Energetic Systems, LLC.
EX1989110427, EX1989110428, EX1989110429, EX1989110431, EX1989110432, EX1989110433, EX1989110434, EX1989110435, EX1989110437 | UN0481 | Accurate Energetic Systems, LLC.
EX1990020001, EX1995070012, EX1995070013, EX1998110101, EX2013020610 | UN0367 | Action Manufacturing Company.
EX2015040456 | UN0367 | Advanced Material Engineering.
EX1990050150 | UN0367 | Aerojet Propulsion Division (APD).
EX2014060245 | UN0349 | Aerojet Rocketdyne, Inc.
EX2005030114 | UN0349 | Aircraft Interior Products Goodrich Corporation.
EX1990010215 | UN0367 | Alliant Techsystems (ATK) formerly Thiokol Corporation, Elkton Division.
EX1988090082 | UN0367 | Alliant Techsystems Inc. (ATK).
EX1989050056, EX2007110352, EX1989100162, EX2013040297 | UN0367 | Alliant Techsystems Operations LLC.
EX2009010092 | UN0349 | Alliant Techsystems Operations LLC.
EX1991050098, EX1991050099 | UN0367 | Alliant Techsystems, Inc.
EX1988040026, EX1990100007, EX1990100008 | UN0367 | Alliant Techsystems, Inc. (formerly Honeywell, Inc.).
EX2004010221 | UN0349 | American Airlines, Inc.
EX2018042084 | UN0348 | Armtec Defense Products Co.
EX2008040391 | UN0349 | Austin Powder Company.
EX2016020031 | UN0349 | Austin Star Detonator Company.
EX1994120113 | UN0384 | Baker Hughes INTEQ(Owen Compliance Services, Inc.).
EX1990080103, EX1990080105 | UN0367 | BEI Defense Systems Company, Inc.
EX2001050157 | UN0367 | BF Goodrich Aerospace.
EX2019022522, EX2018012130 | UN0349 | Brazilian Government.
EX1997070025, EX1997070026, EX1997070027, EX1997080006, EX1997080007, EX1997080008 | UN0481 | Cambridge Isotope Laboratories, Inc. (CIL).
EX2018062063 | UN0349 | Captive Technologies.
EX2009070004 | UN0367 | Cartridge Actuated Devices, Inc.
EX2014080559 | UN0349 | Cartridge Actuated Devices, Inc.
EX2014080560 | UN0481 | Cartridge Actuated Devices, Inc.
EX2018022134 | UN0349 | Chemring Energetic Devices, Inc.
EX2017080149 | UN0481 | Combined Tactical Systems, Inc.
EX1997070024, EX1997070068, EX1997070069, EX1997070070, EX1997070071, EX1997070072, EX1997070073, EX1997070074, EX1997070075, EX1997070076, EX1997070077, EX1997070078, EX1997070079 | UN0481 | Crescent Chemical Company.
EX1996020030, EX1998020066 | UN0481 | Dangerous Goods Management.
EX1998110137 | UN0349 | De La Mare Engineering, Inc.
EX1999060129 | UN0349 | Delta Defense, Inc.
EX1981040049A, EX1981040049B, EX1981040051, EX1981080055, EX1982060015, EX1985030145, EX1985110053, EX1988020112, EX1988020165, EX1988020257 EX1988020258, EX1989040152, EX1989040153, EX1989050110, EX1989050111, EX1989100084A, EX1990020651, EX1990050327, EX1990060148, EX1991060303, EX1992030149, EX1992030150, EX1992030153, EX1993020094, EX1995050091, EX1997060028, EX1999080141, EX2002020020, EX2002060189, EX2003080115 | UN0367 | Department of Energy.
EX1988120022 | UN0349 | Department of Energy.
EX2010091462, EX2010091463, EX2010091464, EX2010091465, EX2010091466 | UN0367 | Department of Energy, National Nuclear Security Administration.
EX1998050150 | UN0349 | Dynamit Nobel GmbH.
EX1997120152 | UN0481 | Dynamit Nobel Wien GmbH.
EX1998050065, EX1998070014, EX1998070015, EX1998070016, EX1999010231, EX1999010232 | UN0349 | Dyno Nobel North America, (Formerly, The Ensign-Bickford Company).
EX2007060067 | UN0349 | Dyno Nobel, Inc.
EX1999010179 | UN0349 | Dyno Nobel, Inc. (formerly IRECO, Incorporated).
EX1994040159 | UN0349 | Edison Giocattoli, S.p.a.
EX2011080094 | UN0481 | Energy Technical Systems, Inc.
EX1991050274, EX1991050275, EX1991050276, EX1992020016, EX1992020018, EX1992020019, EX1992020020, EX1992020021, EX1992020022, EX1992020023, EX1992020024, EX1992020025, EX1992020026, EX1992020027, EX1992020028, EX1992020029, EX1992020030, EX1992020031, EX1992020032, EX1992020033, EX1992020034, EX1992120113, EX1992120114, EX1992120115, EX1992120116, EX1992120117, EX1992120118, EX1992120119, EX1992120120, EX1992120121, EX1992120122, EX1992120123, EX1992120124, EX1992120125, EX1992120126, EX1992120127, EX1992120128, EX1992120129, EX1993040064, EX1993040065, EX1993060123, EX1993060124 | UN0367 | Ensign Bickford Aerospace Company.
EX2003060196, EX2003070020, EX2003100058, EX2006090083, EX2011111082, EX2017092000 | UN0367 | Ensign-Bickford Aerospace & Defense Company.
EX2006110171, EX2016050074 | UN0349 | Ensign-Bickford Aerospace & Defense Company.
EX2008020158, EX2008020158, EX2011020663 | UN0384 | Ensign-Bickford Aerospace & Defense Company.
EX2013050584, EX2012040953 | UN0367 | Ensign-Bickford Aerospace & Defense Company (EBA&D).
EX2014071026, EX2014030181, EX2015030271 | UN0349 | Esterline Defense Technologies.
EX2013090807 | UN0349 | Esterline Defense Technologies (Armtec Defense Products Co.).
EX1987040167A, EX1987070022A, EX1988090072A, EX1989030240A, EX1989120002A, EX1991080167, EX1991120107, EX1991120108, EX1991120109, EX1991120110, EX1992010103, EX1992010118, EX1992010119, EX1992010120, EX1992020188, EX1992030091, EX1992030092, EX1992030093, EX1992030094, EX1992030095, EX1992030096, EX1992030097, EX1992030098, EX1992030099, EX1992030100, EX1992030101, EX1992030102, EX1992030103, EX1992030104, EX1992030105, EX1992030106, EX1992030107, EX1992030108, EX1992030109, EX1992030110, EX1992030111, EX1992030112, EX1992030113, EX1992030114, EX1992030115, EX1992030116, EX1992030117, EX1992030118, EX1992030119, EX1992030120, EX1992030121, EX1992030122, EX1992030123, EX1992030124, EX1992030125, EX1992030126, EX1992030127, EX1992030128, EX1992030129, EX1992030162, EX1992030163, EX1992030164, EX1992030165, EX1992030166, EX1992030167, EX1992030168, EX1992030426, EX1992030427, EX1992030428, EX1992030429, EX1992040203, EX1992050066, EX1992050067, EX1992050068, EX1992050069, EX1992050070, EX1992120143, EX1992120144, EX1993030182, EX1993030183, EX1993030184, EX1993050013, EX1993050014, EX1993050184, EX1993050185, EX1993050186, EX1993050187, EX1993050188, EX1993050189, EX1993050190, EX1993050191, EX1993050192, EX1993100003, EX1993100004, EX1994060241, EX1994060242, EX1994070291, EX1994070292, EX1994100006 | UN0367 | ET, Inc. (formerly Explosive Technology, Inc.).
EX2014080308 | UN0481 | ETA S.A.
EX2011031882 | UN0481 | Eurenco Bofors AB.
EX2004070039 | UN0349 | Federal Cartridge Company.
EX2015030372 | UN0367 | G&W Electric Co.
EX1989040015 | UN0367 | General Dynamics Ordnance Systems, Inc.
EX2004120201, EX2004120266, EX2005030106 | UN0367 | Goodrich Corporartion Aircraft Interior Products Propulsion System.
EX2018062079 | UN0349 | Government of Argentina.
EX2014010162 | UN0349 | Government of Brazil.
EX2014030546, EX2015020468 | UN0349 | Government of Canada, Department of National Defence (DND).
EX2016010220 | UN0367 | Government of Chile.
EX2011020399 | UN0367 | Government of Czech Republic—National Movement Coordination Center.
EX2011060808 | UN0367 | Government of Egypt.
EX2012090400, EX2012111048, EX2013050931, EX2013050933, EX2013050934, EX2013050935, EX2013050937, EX2013050938, EX2013050944, EX2016110903, EX2016120102, EX2013040878 | UN0367 | Government of Finland.
EX2012080134, EX2012080135, EX2012080136, EX2012080137, EX2012080138, EX2013040878, EX2012080132, EX2012080130, EX2012080133, EX2012080131 | UN0367 | Government of Finland, Finnish Air Force Materiel Command.
EX2019082696 | UN0367 | Government of Indonesia.
EX2015100860 | UN0367 | Government of Israel, Ministry of Defense.
EX2016110139 | UN0367 | Government of Oman.
EX2016110837 | UN0367 | Government of Romania.
EX2009110194 | UN0349 | Government of Spain.
EX1996110231 | UN0481 | Government of Switzerland.
EX2013090134, EX2013100569, EX2013120494, EX2013121238, EX2014020631, EX2014050390, EX2013090731, EX2013120494, EX2013121238 | UN0367 | Government of Switzerland.
EX2014080653, EX2014080655 | UN0367 | Government of Turkey.
EX2019042048 | UN0349 | Harris Corporation.
EX1996090033 | UN0349 | HFI Pyrotechnics Inc.
EX1991020110 | UN0367 | Hi-Shear Technology Corporation.
EX1999120081 | UN0481 | Hodgdon Powder Co., Inc.
EX1995100062 | UN0367 | Hughes Missile Systems Co.
EX2014120454 | UN0384 | Hunting Titan, Inc.
EX2000100140, EX2003090038, EX2003090039, EX2003090040, EX2006020597, EX2006030376, EX2006030377, EX2007040208, EX2007040209, EX2007040210, EX2007040211, EX2007040212, EX2007040214 | UN0367 | IMI Services USA, Inc.
EX2006090071, EX2006090072, EX2006090073, EX2006090074 | UN0481 | IMI Services USA, Inc.
EX2006120390 | UN0367 | International Launch Services.
EX1998010222 | UN0349 | Ion Track Instruments.
EX1989010061, EX1989010063, EX1990080009 | UN0367 | IRECO, Incorporated.
EX2001070022 | UN0349 | Kaleva Design Inc.
EX2019112092 |  | Kaman Aerospace Corporation, Precision Products Division.
EX1996010026 | UN0367 | KDI Precision Products, Inc.
EX1993070128 | UN0384 | Kilgore Flares Co., LLC (formerly Kilgore Corporation).
EX1989040062, EX1989040064, EX1989040065, EX1989040066 | UN0367 | Kilgore Flares Company, LLC (formerly Kilgore Corporation).
EX2018042083 | UN0367 | Kingdom of Norway.
EX2012100180 | UN0349 | Kuwaiti Government.
EX2012121019, EX2012121020, EX2014060500, EX2017070003, EX2012100261, EX2012100771, EX2012101234, EX2012101307, EX2012110071 | UN0367 | Kuwaiti Government.
EX2010121648 | UN0367 | L-3 Fuzing & Ordnance Systems.
EX2006060214 | UN0349 | Lockheed Martin Aeronautics Company.
EX1998060022 | UN0349 | Lockheed Martin Astronautics.
EX1988010203 | UN0367 | Lockheed Martin Corporation, Vought Systems.
EX2007010486 | UN0349 | Lockheed Martin Missiles & Fire Control.
EX2006120308 | UN0349 | Lockheed Martin Missiles and Fire Control.
EX2014100238 | UN0367 | Malaysia.
EX2014100239 | UN0349 | Malaysia.
EX1988060076 | UN0349 | Margo Supplies, Limited.
EX2007010049 | UN0349 | Martinez Specialties, Inc.
EX2005110342 | UN0384 | Mat Transport AG.
EX1999120145 | UN0349 | Maxam North America, Inc.
EX2004090159 | UN0349 | Mecano-Tech, Inc..
EX1993030204 | UN0384 | Ministry of Defence.
EX2011050296 | UN0481 | Missiles & Space Batteries Ltd.
EX2006100248 | UN0384 | Nammo Raufoss.
EX2011060272, EX2011060295, EX2011060296 | UN0367 | Nammo Talley, Inc.
EX2001080091 | UN0349 | NASA.
EX1997030156 | UN0349 | National Aeronautics & Space Administration (NASA).
EX2019042398, EX2019062134, EX2019052212, EX2019062140, EX2019062153 | UN0367 | Netherlands Government, Ministry of Defense.
EX2017040300 | UN0384 | Netherlands Ministry of Defense.
EX2013040460 | UN0481 | NOBEL SPORT.
EX2017102345 | UN0349 | Nobelteq Arms & Ammunition (PTY LTD).
EX2005060403 | UN0349 | NOF America Corporation.
EX2006090055 | UN0349 | ODA Enterprises, LLC.
EX2000090075 | UN0367 | OEA Aerospace, Inc.
EX1983050016, EX1983100004, EX1986100062, EX1986110105, EX1987020082, EX1987030349, EX1987030349A, EX1987040013, EX1987040066, EX1987040066A, EX1987040166, EX1987040170, EX1987060001, EX1987060114, EX1987060115A, EX1987060273, EX1987070007, EX1987070045, EX1987070168, EX1987080057, EX1987080060, EX1987080161, EX1987110194, EX1987110272, EX1988010167, EX1988030080, EX1988030081, EX1988030091, EX1988050205, EX1988050276, EX1988060019, EX1988070012, EX1988070279, EX1988080020, EX1988080021, EX1988090072, EX1988100173, EX1988100206, EX1988110127, EX1989010224, EX1989010250, EX1989010263, EX1989020005, EX1989030237, EX1989060207, EX1989080099, EX1989090020, EX1989090050, EX1989110183, EX1989120005, EX1990010080, EX1990040015, EX1990090184, EX1990120099 | UN0367 | OEA Aerospace, Inc. (formerly ET, Inc.).
EX1987110191, EX1987120186, EX1988090132, EX1988100184, EX1988110130, EX1988110168 | UN0367 | OEA, Inc.
EX2011060087, EX2012070226 | UN0349 | Omnitek Partners, LLC.
EX1997040127, EX1997040128, EX1997040129, EX1998010044, EX1998010045 | UN0349 | Orbital Sciences Corporation.
EX2000080058 | UN0349 | Orica Canada Inc.
EX1994060082, EX2009100178, EX2010060062, EX2008040541, EX1989010033 | UN0349 | Owen Oil Tools c/o Owen Compliance Services.
EX1981030045, EX1997070003, EX2001030056 | UN0367 | Pacific Scientific.
EX1999120130 | UN0367 | Pacific Scientific Energetic Materials Company.
EX2014020516 | UN0349 | Pioneer Wireline Services.
EX2014080306 | UN0349 | Polyfectos S.R.I.—Productos Experciales de Pirotechnia.
EX1999040101, EX1999040103 | UN0481 | Radian International LLC.
EX2009120383 | UN0367 | Raytheon Missile Systems.
EX2007060063, EX2007060065, EX2007090393, EX2007090404 | UN0349 | RCS Rocket Motor Components, Inc.
EX1998060011 | UN0349 | Reed-Joseph International Company.
EX2012050939 | UN0367 | Republic of Korea.
EX2013010550 | UN0367 | Republic of Singapore.
EX2013010733 | UN0349 | Reynolds Systems, Inc.
EX1994070004 | UN0349 | Rockwell International Corporation.
EX2012080249 | UN0367 | Royal Thai Air Force.
EX2003120601, EX2004050280, EX2006020514 | UN0384 | Schlumberger.
EX2000100101, EX2001030053 | UN0349 | Schlumberger.
EX2001020259, EX2001030059 | UN0367 | Schlumberger.
EX1987060027, EX1987060283, EX1988060182 | UN0349 | Schlumberger Perforating and Testing Center.
EX1994010082, EX1997100012, EX1997100012A, EX1997110099, EX1994020120, EX1994050292, EX1994060018, EX1997120139, EX1999030011, EX1999050168 | UN0367 | Schlumberger Perforating and Testing Center.
EX1995120021, EX1996080002, EX1997120090, EX1998110106 | UN0384 | Schlumberger Perforating and Testing Center.
EX2008020232 | UN0384 | Schlumberger Reservoir Completion Center.
EX2006020610, EX2006060236, EX2006100165, EX2007030299 | UN0384 | Schlumberger Reservoir Completions.
EX1987060282, EX2004080087, EX2005100173 | UN0349 | Schlumberger Reservoir Completions.
EX2001020258, EX2006020384, EX2006060181 | UN0367 | Schlumberger Reservoir Completions.
EX1999060153, EX1999060154, EX1999110045, EX2009110196, EX2010030568, EX2011100993 | UN0384 | Schlumberger Technology Corporation.
EX1999110163, EX2010091254 | UN0367 | Schlumberger Technology Corporation.
EX1995040042 | UN0367 | Schlumberger Well Services.
EX2000080043 | UN0349 | Segutronic High Security Engineering.
EX2008100269 | UN0384 | Special Devices, Inc.
EX2014070364, EX2014070661 | UN0367 | Spectra Technologies, LLC.
EX1987070141, EX1987070142, EX1987070143, EX1987070144, EX1987070145, EX1987070146, EX1987070147, EX1988090056, EX1989110354, EX2005070106 | UN0367 | Stresau Laboratory, Inc.
EX1995040044 | UN0481 | Supelco, Inc.
EX1983040001 | UN0349 | Sutton AG Enterprises, Inc.
EX2006070137 | UN0367 | SwETech AB.
EX2012081250 | UN0367 | Taiwan Ministry of National Defense.
EX2006100253 | UN0384 | Talley Defense Systems.
EX2017040139 | UN0349 | TCO AS.
EX1990020056, EX1990060041, EX1990060042, EX1990060044, EX1992010063, EX1992050131, EX1992050132, EX1997020095 | UN0367 | Tech Ord.
EX1997070061, EX1999070225 | UN0384 | Tech Ord.
EX1998110136, EX1999030378 | UN0349 | Tech Ord.
EX2010030561 | UN0481 | Tech Ord.
EX1997010051 | UN0367 | Tech Ord, Inc.
EX2003070046, EX2003070046A, EX2003070047 | UN0349 | Technical Consultants, Inc.
EX1990060043 | UN0367 | Technical Ordnance, Inc.
EX1987080031A, EX1990090143, EX1990090200, EX1990090201 | UN0367 | Teledyne McCormick Selph.
EX2001020093, EX2001080081, EX2001080082, EX2001030032, EX2001030222, EX2001050003 | UN0349 | The Boeing Co.
EX1988040096, EX1989040003, EX1989040004 | UN0367 | The Ensign-Bickford Company.
EX2012111046 | UN0367 | The Government of Finland.
EX2013050082 | UN0367 | The Government of the United Arab Emirates.
EX2011020522 | UN0384 | The Netherlands Government, Ministry of Defense.
EX1997090011 | UN0481 | Thiokol Corporation.
EX2005070009 | UN0349 | Titan Energetics, A Division of Titan Specialties, Ltd.
EX2015010210, EX2015030140 | UN0481 | Tk Holdings Inc.
EX2015101002 | UN0481 | TRW Automotive.
EX2001050019 | UN0349 | TRW Vehicle Safety Systems, Inc.
EX1980120071, EX1981040049, EX1981040050, EX1981090037, EX1981090038, EX1981090038A, EX1981090041, EX1981090041A, EX1981090042, EX1981090043, EX1981090045, EX1981090045A, EX1981090046, EX1981090046A, EX1981090053, EX1981090053A, EX1981090055, EX1981090055A, EX1981090056, EX1981090057, EX1982070039, EX1982070040, EX1982080009, EX1982120025, EX1982120026, EX1986010167, EX1986020063, EX1986020063A, EX1986020064, EX1986020064A, EX1986030075, EX1986030075A, EX1986030075B, EX1988120021, EX1989010213, EX1989050115, EX1989050116, EX1989050117, EX1989050120, EX1989050121, EX1989050124, EX1989050125, EX1989050128, EX1989100084, EX1990060155, EX1991070207, EX1991070208, EX1991070212, EX1991070213, EX1991070214, EX1991100012, EX1991100013, EX1991100014, EX1991100015, EX1991100016, EX1991100017, EX1991100018, EX1991100019, EX1991100020, EX1991100021, EX1991100022, EX1991100023, EX1992030154, EX1992030155, EX1992040077, EX1996070015, EX1996070016, EX1998030145, EX1998080119, EX1998080120, EX2001020284, EX2001070011, EX2001070012, EX2002020019, EX2004020194, EX2006050135, EX2012111041, EX2012111042, EX2012111043, EX2013060391, EX2013060392, EX2014020326 | UN0367 | U.S. Department of Energy.
EX1982070041, EX2012080811, EX1999070017, EX1997050049, EX1995120009, EX1982070042 | UN0349 | U.S. Department of Energy.
EX1988100144 | UN0367 | UniDynamics Phoenix, Inc.
EX2008060282, EX2010070467, EX2011020067, EX2015121928, EX2015121929 | UN0349 | United Launch Alliance.
EX2007120480 | UN0349 | Universal Propulsion Company.
EX2008010038 | UN0367 | Universal Propulsion Company.
EX2003060201, EX2003080142 | UN0367 | Universal Propulsion Company Seating & Propulsion Systems.
EX2003090231, EX2003090233 | UN0367 | Universal Propulsion Company Seating & Propulsion Systems Goodrich Corporation.
EX1986090048A, EX1986090049A, EX1986090050A, EX1986090051A, EX1986110195, EX1986110196, EX1987030008, EX1987030010, EX1987030012, EX1987120084, EX1987120090, EX2005050019, EX2005080064, EX2005090495, EX2005110388, EX2008040079, EX2008040079, EX2009110005, EX2010071106, EX2010091304, EX2010091328, EX2010111451, EX1990020341 | UN0367 | Universal Propulsion Company, Inc.
EX1987110203, EX1987110204, EX1987110205, EX1987110206, EX1987110210, EX1987110212 | UN0367 | Universal Propulsion Company, Inc. (formerly, OEA Aerospace, Inc.).
EX2018032147, EX2018072098 | UN0349 | Virgin Orbit, LLC.
EX2009060062, EX2009100076, EX2009100075 | UN0349 | W.T. Bell International, Inc.
EX2013050766, EX2013050769, EX2013070418, EX2013070465 | UN0384 | W.T. Bell International, Inc.
EX2000090134, EX2000090135 | UN0349 | W.T. Bell International, Inc., (Formerly, Specialty Completion Products LLC.).
EX2019022745 | UN0349 | Weatherford International, LLC.
EX1989030095 | UN0349 | Western Atlas International (form. Dresser Atlas).
EX1996100128 | UN0367 | Woerner Engineering, Inc.
EX2006040223 | UN0367 | Zaugg Elektronik AG.

Issued in Washington, DC, on April 29, 2021.
William S. Schoonover,
Associate Administrator for Hazardous Materials Safety, Pipeline and Hazardous Materials Safety Administration.

[FR Doc. 2021-09390 Filed 5-3-21; 8:45 am]

BILLING CODE 4910-60-P